POSTAL SERVICE

39 CFR Part 20

International Registered Mail

AGENCY: Postal Service.

ACTION: Final rule.

SUMMARY: The Postal Service is revising Mailing Standards of the United States Postal Service, International Mail Manual (IMM®), and Notice 123, Price List, to reflect changes to international Registered Mail as established by the Governors of the United States Postal Service.

DATES: Effective: January 1, 2026.

FOR FURTHER INFORMATION CONTACT: Dale Kennedy at 202-268-6592 or Michelle Lassiter 202-268-2914.

SUPPLEMENTARY INFORMATION: During the October 2023 Universal Postal Union (UPU) Extraordinary Congress, the decision was made to revise the Universal Postal Convention to limit the availability of international Registered Mail to letter-post items containing documents only, effective January 1, 2026.

On October 14, 2025, the Postal Service filed a notice in Postal Regulatory Commission (PRC) Docket No. MC2026-21, which the PRC favorably reviewed on November 5, 2025, in Order No. 9333, regarding the termination of international Registered Mail as an extra service for First-Class Package International Service®, effective January 1, 2026. International Registered Mail service will continue to be available for First-Class Mail International® letters when Registered Mail is purchased as an extra service. This order is available on the PRC website at https://www.prc.gov.

These IMM revisions implement changes associated with the termination of outbound international Registered Mail as an extra service for the following:

First-Class Package International Service.

Free Matter for the Blind First-Class Package International Service.

The Postal Service hereby adopts the following changes to Mailing Standards of the United States Postal Service, International Mail Manual (IMM), which is incorporated by reference in the Code of Federal Regulations. We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations, as follows (see 39 CFR 20.1):

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the IMM as follows:

* * * * *

Mailing Standards of the United States Postal Service, International Mail Manual (IMM)

* * * * *

1 International Mail Services

* * * * *

130 Mailability

* * * * *

134 Valuable Articles

134.1 Service Options

* * * * *

[Revise item a. to read as follows:]

a. First-Class Mail International with Registered Mail Service may be used only when the destination customs authority treats the item as a document. See Individual Country Listings.

* * * * *

135 Mailable Dangerous Goods

* * * * *

135.12 Type of Mail

[Revise the text to read as follows:]

Category B infectious substances may be sent using Priority Mail Express International, Priority Mail International, or First-Class Package International Service when properly packaged as described in Publication 52, Packaging Instruction 6C.

Nonregulated materials defined in Publication 52, section 346.325, and exempt human or animal specimens defined in Publication 52, item 346.12d, are mailable when properly packaged as described in Publication 52, Packaging Instruction 6G and 6H respectively.

* * * * *

135.3 Packaging, Marking, Labeling

135.31 Category B Infectious Substances

[Revise the first sentence to remove limitation to use First-Class Package International Service using Registered Mail service, to read as follows:]

A material that is classified as a Category B infectious substance and that meets the definition in Publication 52, item 346.12a, must be triple-packaged as described in Publication 52, Packaging Instruction 6C, must meet the packaging requirements in 49 CFR 173.199. * * *

* * * * *

135.5 Radioactive Materials

* * * * *

[Revise item a. to read as follows:]

a. Shipments may be sent using Priority Mail Express International, Priority Mail International, or First-Class Package International Service.

* * * * *

140 International Mail Categories

141 Definitions

* * * * *

141.4 Priority Mail International

* * * * *

[Revise the second paragraph to read as follows:]

Priority Mail International Flat Rate Envelopes and Small Flat Rate Priced Boxes provide customers with an economical means of sending correspondence, documents, printed matter, and lightweight merchandise items to foreign destinations. The maximum weight limit is 4 pounds. At the sender`s option, extra services, such as additional merchandise insurance coverage, may be added to Priority Mail International Flat Rate Envelopes and Small Flat Rate Priced Boxes on a country-specific basis.

* * * * *

141.6 First-Class Package International Service

[Revise the last sentence to read as follows:]

* * * At the sender's option, extra services may be added on a country-specific basis.

* * * * *

142 Official Mail

* * * * *

142.4 General Secretariat of the Organization of American States (OAS)

* * * * *

[Revise the first sentence of item a. to read as follows:]

a. Only unregistered or registered First-Class Mail International and unregistered First-Class Package International Service items bearing the return address of the OAS General Secretariat and weighing not more than 4 pounds are accepted without postage when addressed to the OAS member countries listed in 142.4b.* * *

* * * * *

142.5 Pan American Sanitary Bureau Mail

[Revise the second sentence to read as follows:]

* * * Registered First-Class Mail International, as well as items in all other mail classes, must be prepaid by the mailer.

* * * * *

2 Conditions for Mailing

* * * * *

230 Priority Mail International

* * * * *

232 Eligibility

232.1 Priority Mail International Flat Rate Envelopes and Small Flat Rate Priced Boxes—General

[Delete the last sentence that states “Registered Mail service is not available.”

* * * * *

232.3 Priority Mail International Medium and Large Flat Rate Boxes

[Delete the last sentence that states “Registered Mail service is not available.”

* * * * *

232.5 Priority Mail International Parcels

[Delete the last sentence that states “Registered Mail service is not available.”

* * * * *

250 First-Class Package International Service

* * * * *

252 Eligibility

* * * * *

252.5 Extra Services

* * * * *

[Delete 252.52 in its entirety and renumber current 252.53 as 252.52.]

* * * * *

253 Prices and Postage Payment Methods

* * * * *

253.2 Postage Payment Methods

* * * * *

253.23 Online Methods

253.231 Online Prices—Commercial Base or Commercial Plus Prices

[Revise the last sentence of the last paragraph to read as follows:]

* * * It does not apply to any other charges or fees or shipments made under a customized agreement.

* * * * *

254 Mail Preparation

* * * * *

254.3 Sealing

[Revise the text to read as follows:]

First-Class Package International Service items may be sealed at the sender's option. Mailpieces not sealed by conventional means, such as taping the open flaps for small packets, must be closed in such a manner as to prevent the contents from falling out or being damaged during postal handling and transport.

* * * * *

270 Free Matter for the Blind

* * * * *

272 Eligibility

* * * * *

272.6 Extra Services

* * * * *

[Revise item a. to read as follows:]

a. Registered Mail service for First-Class Mail International items.

* * * * *

3 Extra Services

* * * * *

330 Registered Mail

* * * * *

332 Availability

[Revise the text to read as follows:]

Note: Global Express Guaranteed Service Is Suspended as of September 29, 2024

Customers may purchase Registered Mail service for First-Class Mail International items that contain documents only, including Free Matter for the Blind items. Registered Mail service is not available with Global Express Guaranteed, Priority Mail Express International, or Priority Mail International service, First-Class Package International Service items, or any type of M-bag service. See Individual Country Listings for additional country-specific prohibitions and restrictions.

* * * * *

334 Processing Requests

334.1 Mailing Receipt and Registration Number

334.11 General Use

[Revise the text to read as follows:]

The Postal Service issues a receipt when it accepts a Registered Mail item. For individual transactions, use PS Form 3806, Receipt for Registered Mail. When presenting three or more items for registration at one time, the mailer may use PS Form 3877, Firm Mailing Book for Accountable Mail (see DMM 503). For First-Class Mail International items containing documents that require a customs form, the registered number is determined by the barcode printed on the customs form, and the accepting clerk applies a nonbarcoded Label 200-N, Registered Mail, to the mailpiece. For First-Class Mail International items containing documents that do not require a customs form, the accepting clerk applies Label 200, Registered Mail, a preprinted self-adhesive label with a 9-digit number series preceded by a Service Type Code of two alpha characters and followed by the two-character County Code “US.” Only labels printed by the Postal Service may be used on international Registered Mail items.

* * * * *

9 Inquiries, Indemnities, and Refunds

* * * * *

930 Indemnity Payments

* * * * *

934 Payments for Registered Mail

934.1 General Provisions

* * * * *

[Revise the title and text to read as follows:]

934.12 Items Erroneously Accepted as Registered Mail

For Registered Mail items accepted in error, indemnity may be paid under the conditions in 934.2.

* * * * *

943 Processing Refund Applications

943.1 Items Originating in the United States

* * * * *

[Revise item b. to read as follows:]

b. If there is reason to believe a registered item, insured item, or ordinary parcel originating in the United States was returned in error, or if the parcel was returned with no annotation showing reason for return, call 800-222-1811 to initiate an inquiry.

* * * * *

Colleen Hibbert-Kapler,
Attorney, Ethics and Legal Compliance.

[FR Doc. 2025-21089 Filed 11-24-25; 8:45 am]

BILLING CODE 7710-12-P